COMMITTEE FOR PURCHASE FROM PEOPLE WHO ARE BLIND OR SEVERELY DISABLED

Procurement List; Additions and Deletions

AGENCY: Committee for Purchase from People Who are Blind or Severely Disabled.

ACTION: Additions to and deletions from the Procurement List.

SUMMARY: This action adds products and a service to the Procurement List that will be furnished by nonprofit agencies employing persons who are blind or have other severe disabilities, and deletes services from the Procurement List previously furnished by such agencies.

DATES: Effective Date: 10/19/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 6/26/2015 (80 FR 36773-36774) and 8/4/2015 (80 FR 46250), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 8501-8506) in connection with the products and service proposed for addition to the Procurement List.

End of Certification

Accordingly, the following products and service are added to the Procurement List:

Products

NSN(s)—Product Name(s):

7930-00-NIB-0717—Floor Finish/Sealer, Black, Water-Based, Slip-Resistant, Asphalt Floors, 5 Gal. Can

7930-00-NIB-0675—Floor Finish/Sealer, Black, Water-Based, Slip-Resistant, Asphalt Floors, 4/1 Gal. Bottles

Mandatory Source(s) of Supply: Lighthouse for the Blind of Houston, Houston, TX

Mandatory Purchase For: Broad Government Requirement

Contracting Activity: General Services Administration, Fort Worth, TX

Distribution: B-List

Service

Service Type: Janitorial and Related Service

Service Mandatory For: U.S. Customs and Border Protection; 1 La Puntilla Street; San Juan, PR

Mandatory Source(s) of Supply: The Corporate Source, Inc., New York, NY

Contracting Activity: U.S. Customs and Border Protection, Border Enforcement Contracting Division

Deletions

On 8/7/2015 (80 FR 47475) and 9/4/2015 (80 FR 53501-53502), the Committee for Purchase From People Who Are Blind or Severely Disabled published notices of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Rebuilding Auto Components Service

Service Mandatory For: Location Unknown

Mandatory Source(s) of Supply: Federation Employment and Guidance Service, Inc., New York, NY

Contracting Activity: General Services Administration, FPDS Agency Coordinator

Service Type: Warehousing Service

Service Mandatory For: Barbers Point Naval Air Station, Barbers Point, HI

Mandatory Source(s) of Supply: Trace, Inc., Boise, ID

Contracting Activity: Defense Commissary Agency

Barry S. Lineback,
Director, Business Operations.

[FR Doc. 2015-23442 Filed 9-17-15; 8:45 am]

BILLING CODE 6353-01-P